DEPARTMENT OF HEALTH AND HUMAN SERVICES

Centers for Disease Control and Prevention

[60 Day-09-09AL]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 and send comments to Maryam I. Daneshvar, CDC Acting Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

The Green Housing Study—New—National Center for Environmental Health (NCEH), Centers for Disease Control and Prevention (CDC).

Background and Brief Description

Green building principles and practices have been shown to reduce energy consumption, but their efficacy in reducing environmental agents such as pesticides, volatile organic compounds (VOCs), fungi, and indoor allergens is not clear. Furthermore, little research has been conducted on health impacts that might be related to green buildings, especially on a nationwide scale. Three main goals of this study are: (1) To compare levels of certain environmental chemical and biological agents in green vs. traditional, multi-family, low-income housing; (2) to ascertain differences in the health of the residents in these homes; and (3) to assess the economic impacts of the “greening” of housing-particularly those related to health. These goals will be accomplished in an ongoing building renovation program, “Mark-to-Market” (M2M), sponsored by the Department of Housing and Urban Development (HUD). Briefly, the M2M program is a nationwide initiative that encourages owners and purchasers of affordable, multi-family properties to rehabilitate and operate their properties using sustainable green building principles. In partnership with HUD, the CDC will leverage this opportunity to collect survey and biomarker data from residents and to collect environmental measurements in their homes in order to evaluate associations between green housing and health.

This study directly supports the Healthy Homes' health protection goal of the Centers for Disease Control and Prevention (CDC). This investigation is also consistent with CDC's Health Protection Research Agenda, which calls for research to identify the major environmental causes of disease and disability and related risk factors.

Indoor allergens such as those from cockroaches, dust mites, mice, and fungi have been associated with childhood asthma. Also, VOCs and pesticides have been associated with adverse birth outcomes (e.g., low birth weight and prematurity) and delayed neurodevelopment. Given that green principles such as improvement of ventilation systems and elimination of spray pesticides can directly affect the concentrations of chemical and biological agents in air, residents in green housing should theoretically have better health outcomes (e.g., asthma, birth outcomes, and infant neurodevelopment, this in turn will lead to lower healthcare utilization and overall societal costs.

Participants will include pregnant women, mothers and children living in HUD-subsidized housing that has either been rehabilitated in a green (e.g., case) or a traditional manner (e.g., control) from study sites across the United States. Pregnant women and children with asthma (ages 7-12 years) will donate blood samples (for assessment of allergy) and urine samples (for assessment of pesticide and VOC exposures). The children with asthma (ages 7-12 years) will be also tested for lung function and lung inflammatory markers. Questionnaires regarding home characteristics and respiratory symptoms will be administered at 3-month intervals over a 2-year period. Of the pregnant women enrolled, neurodevelopment of their infant will be tested at ages 1 week and 6 months. Environmental sampling of the air and dust in the participants' homes will be conducted over a 2 year period (once in the home before rehabilitation, and then at four time points after rehabilitation has been completed: Baseline, 6 months, 12 months, and 24 months). Environmental sampling includes measurements of air exchange rate, pesticides, VOCs, indoor allergens, fungi, temperature, humidity, and particulate matter.

There is no cost to respondents other than their time.

Estimated Annualized Burden Hours
Respondents | Forms | Number of respondents | Number of responses per respondent | Average burden per response (in hours) | Total burden (in hours)
Mothers of enrolled children | Screening questionnaire | 800 | 1 | 5/60 | 067
| Baseline Questionnaire (Home Characteristics) | 688 | 1 | 15/60 | 172
| Baseline Questionnaire (for Mother) | 688 | 1 | 15/60 | 172
| Baseline Questionnaire (for Children 0-6 years) | 688 | 1 | 15/60 | 172
| Baseline Questionnaire (for Children 7-12 with asthma) | 688 | 1 | 15/60 | 172
| 3, 9, 15, and 18-month Phone contact | 688 | 4 | 5/60 | 229
| 6, 12, and 24-month Follow-up Questionnaire (for environment) | 688 | 3 | 10/60 | 344
| 6, 12, and 24-month Follow-up Questionnaire (for women) | 688 | 3 | 10/60 | 344
| 6, 12, and 24-month Follow-up Questionnaire (for children 0-6) | 688 | 3 | 10/60 | 344
| 6, 12, and 24-month Follow-up Questionnaire (for asthmatic child 7-12) | 688 | 3 | 10/60 | 344
Pregnant women | Screening questionnaire | 800 | 1 | 5/60 | 67
| Baseline Questionnaire (Home Characteristics) | 688 | 1 | 15/60 | 172
| Baseline Questionnaire (for Pregnant woman) | 688 | 1 | 15/60 | 172
| 3, 9, 15, and 18-month Phone contact | 688 | 4 | 5/60 | 229
| 6, 12, and 24-month Follow-up Questionnaire (for environment) | 688 | 3 | 10/60 | 344
| 6, 12, and 24-month Follow-up Questionnaire (for women) | 688 | 3 | 10/60 | 344
| Post-delivery questionnaire | 688 | 1 | 5/60 | 57
Total | 3745

Dated: January 8, 2009.
Maryam I. Daneshvar,
Acting Reports Clearance Officer, Centers for Disease Control and Prevention.

[FR Doc. E9-890 Filed 1-15-09; 8:45 am]

BILLING CODE 4163-18-P